DEPARTMENT OF AGRICULTURE

Agricultural Marketing Service

[Docket Number FV-04-309]

United States Standards for Grades of Persian (Tahiti) Limes

AGENCY: Agricultural Marketing Service, USDA.

ACTION: Reopening and extension of the comment period.

SUMMARY: Notice is hereby given that the comment period on possible revisions to the United States Standards for Grades of Persian (Tahiti) Limes is reopened and extended.

DATES: Comments must be received by August 22, 2005.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; fax (202) 720-8871; E-mail FPB.DocketClerk@usda.gov. Comments should make reference to the dates and page number of this issue of the Federal Register and will be made available for public inspection in the above office during regular business hours. The United States Standards for Grades of Persian (Tahiti) Limes is available at either the above address or by accessing the Fresh Products Branch Web site at: http://www.ams.usda.gov/standards/stanfrfv.htm.

FOR FURTHER INFORMATION CONTACT: David L. Priester, at the above address or call (202) 720-2185; E-mail David.Priester@usda.gov.

SUPPLEMENTARY INFORMATION: A notice was published in the Federal Register, March 11, 2005 (70 FR 12174), requesting comments on the possible revisions of the United States Standards for Grades of Persian (Tahiti) Limes. The proposed revisions would simplify the color and juice requirements of the standards which are complex and difficult to apply. Additionally, the Agricultural Marketing Service (AMS) is seeking comments regarding any other revisions that may be necessary to better serve the industry. The comment period ended May 10, 2005.

Three comments were received from industry associations representing Persian (Tahiti) lime handlers, expressing the need for additional time to comment on the possible revisions. The associations requested the comment period be extended to allow the associations an opportunity to meet further with their members to discuss the possible revisions.

After reviewing the request, AMS is reopening and extending the comment period in order to allow sufficient time for interested persons, including the association, to file comments.

Authority: 7 U.S.C. 1621-1627.

Dated: June 16, 2005.
Kenneth C. Clayton,
Acting Administrator, Agricultural Marketing Service.

[FR Doc. 05-12255 Filed 6-21-05; 8:45 am]

BILLING CODE 3410-02-P